DEPARTMENT OF DEFENSE

Office of the Secretary

Charter Renewal of Department of Defense Federal Advisory Committees

AGENCY: Office of the Secretary, Department of Defense.

ACTION: Renewal of Federal Advisory Committee.

SUMMARY: The Department of Defense (DoD) is publishing this notice to announce that it is renewing the charter for the Air University Board of Visitors (“the Board”).

FOR FURTHER INFORMATION CONTACT: Jim Freeman, Advisory Committee Management Officer for the Department of Defense, 703-692-5952.

SUPPLEMENTARY INFORMATION: The Board's charter is being renewed in accordance with the Federal Advisory Committee Act (FACA) (5 U.S.C., Appendix) and 41 CFR 102-3.50(d). The charter and contact information for the Board's Designated Federal Officer (DFO) are found at https://www.facadatabase.gov/FACA/apex/FACAPublicAgencyNavigation.

The Board shall provide the Secretary of Defense and the Deputy Secretary of Defense, through the Secretary of the Air Force, with independent advice and recommendations on educational, doctrinal, and research policies and activities of Air University (“the University”). The Board shall: (a) Review and evaluate progress of the educational programs and the support activities of the University; (b) Review and evaluate the published statement of purpose, institutional polices, and financial resources of the University; and (c) Review and evaluate the educational effectiveness; quality of student learning; administrative and educational support services; and teaching, research, and public service of the University.

The Board shall be composed of no more than 15 members appointed in accordance with DoD policies and procedures, who are eminent authorities in the fields of air, space, cyberspace, defense, management, leadership, or academia.

Board members who are not full-time or permanent part-time Federal civilian officers, employees, or members of the Armed Forces will be appointed as experts or consultants, pursuant to 5 U.S.C. 3109, to serve as special government employee members. Board members who are full-time or permanent part-time Federal civilian officers, employees, or members of the Armed Forces will be appointed pursuant to 41 CFR 102-3.130(a), to serve as regular government employee members.

All members of the Board are appointed to provide advice on the basis of their best judgment without representing any particular point of view and in a manner that is free from conflict of interest. Except for reimbursement of official Board-related travel and per diem, members serve without compensation.

The public or interested organizations may submit written statements to the Board membership about the Board's mission and functions. Written statements may be submitted at any time or in response to the stated agenda of planned meeting of the Board. All written statements shall be submitted to the DFO for the Board, and this individual will ensure that the written statements are provided to the membership for their consideration.

Dated: April 3, 2020.
Aaron T. Siegel,
Alternate OSD Federal Register Liaison Officer, Department of Defense.

[FR Doc. 2020-07401 Filed 4-7-20; 8:45 am]

BILLING CODE 5001-06-P